DEPARTMENT OF TRANSPORTATION

Maritime Administration

Voluntary Intermodal Sealift Agreement (VISA)/Joint Planning Advisory Group (JPAG)

AGENCY: Maritime Administration, DOT.

ACTION: Synopsis of December 9-11, 2002 meeting with VISA participants.

The VISA program requires that a notice of the time, place, and nature of each JPAG meeting be published in the Federal Register. The program also requires that a list of VISA participants be periodically published in the Federal Register. The full text of the VISA program, including these requirements, is published in 66 FR 10938-10947, dated February 20, 2001.

On December 9-11, 2002, the Maritime Administration (MARAD) and the U.S. Transportation Command (USTRANSCOM) co-hosted a meeting of the VISA JPAG at USTRANSCOM, Scott Air Force Base, Illinois.

In order to exercise procedures for an operational JPAG meeting, attendance was by invitation only, and attendees were requested to provide government-issued security clearances prior to attending the meeting.

Of the 52 U.S.-flag carrier corporate participants enrolled in the VISA program at the time of the meeting, 22 companies participated in the meeting. In addition, representatives from the Maritime Administration (MARAD), the Department of Defense, and maritime labor attended the meeting.

LtGen Gary Hughey, the USTRANSCOM Deputy Commander, opened the meeting with a welcome to all attendees. He was followed by James E. Caponiti, Associate Administrator for National Security, Maritime Administration, and Mr. Daniel F. McMillin, Deputy Director, Plans and Policy Directorate (TCJ5), USTRANSCOM, who provided participants with an overview of expected outcomes. The JPAG meeting included briefings on: (1) VISA activation and deactivation processes; (2) the DOD contingency contracting process; (3) force protection issues; (4) merchant mariner issues; and (5) ammunition shipments.

In addition to the briefings, there were two JPAG exercises. The first exercise focused on the sealift contracting process. The second was a mariner exercise to address how to maximize mariner availability in the event of a contingency.

As of September 30, 2002, the following commercial U.S.-flag vessel operators were enrolled in the VISA program with MARAD: America Cargo Transport, Inc.; American Automar, Inc.; American International Car Carrier, Inc.; American President Lines, Ltd.; American Roll-On Roll-Off Carrier, LLC; American Ship Management, L.L.C.; Bay Towing Corporation; Beyel Brothers Inc.; Central Gulf Lines, Inc.; Coastal Transportation, Inc.; Columbia Coastal Transport, LLC; Crowley Liner Services, Inc.; Crowley Marine Services, Inc.; CSX Lines, LLC; Delta Towing; E-Ships, Inc.; Farrell Lines Incorporated; First American Bulk Carrier Corp.; First Ocean Bulk Carrier-I, LLC; First Ocean Bulk Carrier-II, LLC; First Ocean Bulk Carrier-III, LLC; Foss Maritime Company; Liberty Shipping Group Limited Partnership; Lockwood Brothers, Inc.; Lykes Lines Limited, LLC; Lynden Incorporated; Maersk Line, Limited; Matson Navigation Company, Inc.; Maybank Navigation Company, LLC; McAllister Towing and Transportation Co., Inc.; Moby Marine Corporation; Odyssea Shipping Line LLC; OSG Car Carriers, Inc.; Patriot Shipping, L.L.C.; RR & VO L.L.C.; Resolve Towing & Salvage, Inc.; Samson Tug & Barge Company, Inc.; Sea Star Line, LLC; SeaTac Marine Services, LLC; Sealift Inc.; Signet Maritime Corporation; STEA Corporation; Superior Marine Services, Inc.; TECO Ocean Shipping; Totem Ocean Trailer Express, Inc.; Trailer Bridge, Inc.; TransAtlantic Lines LLC; Troika International, Ltd.; U.S. Ship Management, Inc.; Van Ommeren Shipping (USA) LLC; Waterman Steamship Corporation; and Weeks Marine, Inc.

FOR FURTHER INFORMATION CONTACT: Mr. Taylor E. Jones II, Director, Office of Sealift Support, (202) 366-2323.

By Order of the Maritime Administrator.
Dated: December 23, 2002.
Joel C. Richard,
Secretary.

[FR Doc. 02-32828 Filed 12-27-02; 8:45 am]

BILLING CODE 4910-81-P